DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Standards Subcommittee.

Time and Date: October 14, 2008 8:30 a.m.-12 p.m.

Place: Radisson Hotel Reagan National Airport, 2020 Jefferson Davis Hwy., Arlington, VA 22202.

Status: Open.

Purpose: The NCVHS Standards Subcommittee will hold a half day meeting to plan and discuss upcoming topics for hearings and recommendations.

Contact Person for More Information: Substantive program information as well as summaries of meetings and a roster of committee members may be obtained from Denise Buenning, lead staff for Standards Subcommittee, NCVHS, Centers for Medicare and Medicaid Services, Office of E-Health Standards and Services, 7500 Security Boulevard, Room S2-26-17, Baltimore, Maryland 21244, telephone (410) 786-6711; or Marjorie S. Greenberg, Executive Secretary, NCVHS, National Center for Health Statistics, Centers for Disease Control and Prevention, 3311 Toledo Road, Room 2402, Hyattsville, Maryland 20782, telephone (301) 458-4245. Further information also is available on the NCVHS home page: http://www.ncvhs.hhs.gov/, where an agenda will be posted when available.

Should you require reasonable accommodation, please contact the CDC Office of Equal Employment Opportunity on (301) 458-4EEO (4336) as soon as possible.

Dated: September 30, 2008.
James Scanlon,
Deputy Assistant Secretary for Science and Data Policy, Office of the Assistant Secretary for Planning and Evaluation.

[FR Doc. E8-23532 Filed 10-3-08; 8:45 am]

BILLING CODE 4151-05-P